ENVIRONMENTAL PROTECTION AGENCY

[FRL-7794-9]

Proposed Settlement Agreement, Clean Air Act Citizen Suit

AGENCY: Environmental Protection Agency (EPA).

ACTION: Notice of Proposed Settlement Agreement; Request for Public Comment.

SUMMARY: In accordance with section 113(g) of the Clean Air Act, as amended (“CAA” or the “Act”), 42 U.S.C. section 7413(g), notice is hereby given of a proposed settlement agreement to address a lawsuit filed by Glynn Environmental Coalition, Inc. and the Center for a Sustainable Coast, Inc. (collectively, “Plaintiffs”): Glynn Environmental Coalition, Inc. v. EPA, No. 2:04-CV-00013 (S.D. Ga.). On January 26, 2004, Plaintiffs filed a complaint against Defendants United States Environmental Protection Agency and Michael O. Leavitt, Administrator of the United States Environmental Protection Agency (collectively, “EPA”) claiming that EPA failed to grant or deny an administrative petition (the “Petition”) to object to a CAA title V operating permit issued by the State of Georgia for the Hercules, Inc. facility in Brunswick, Georgia. Under the terms of the proposed settlement agreement, a “window” between 30 and 120 days from signature of the agreement would be established for EPA to sign an order granting or denying the Petition.

DATES: Written comments on the proposed settlement agreement must be received by August 30, 2004.

ADDRESSES: Submit your comments, identified by docket ID number OGC-2004-0008, online at http://www.epa.gov/edocket (EPA's preferred method); by e-mail to oei.docket@epa.gov; mailed to EPA Docket Center, Environmental Protection Agency, Mailcode: 2822T, 1200 Pennsylvania Ave., NW., Washington, DC 20460-0001; or by hand delivery or courier to EPA Docket Center, EPA West, Room B102, 1301 Constitution Ave., NW., Washington, DC, between 8:30 a.m. and 4:30 p.m. Monday through Friday, excluding legal holidays. Comments on a disk or CD-ROM should be formatted in Wordperfect or ASCII file, avoiding the use of special characters and any form of encryption, and may be mailed to the mailing address above.

FOR FURTHER INFORMATION CONTACT: Kerry E. Rodgers, Air and Radiation Law Office (2344A), Office of General Counsel, U.S. Environmental Protection Agency, 1200 Pennsylvania Ave., NW., Washington, DC 20460, telephone: (202) 564-5671.

SUPPLEMENTARY INFORMATION:

I. Additional Information About the Proposed Settlement.

Once implemented, the Settlement Agreement (the “Agreement”) would resolve a citizen suit brought pursuant to CAA section 304(a)(2) and the Administrative Procedure Act, 5 U.S.C. section 706(1), to compel a response to the Petition filed by the Plaintiffs in January 2003. The Petition, which was filed pursuant to CAA section 505(b)(2), asked that the Administrator object to a CAA title V operating permit issued by the State of Georgia for the Hercules, Inc. wood rosins and products manufacturing facility in Brunswick, Georgia. The State of Georgia and Hercules, Inc. have intervened as Defendants-Intervenors. Upon execution of the Agreement, the parties shall jointly request that the Court stay the litigation to allow implementation of the Agreement; absent a stay, the Agreement shall be void.¹

¹ The Agreement was executed on July 15, 2004, and the parties filed a joint stay motion with the Court on July 16, 2004.

The Agreement, which is subject to CAA section 113(g), acknowledges that Plaintiffs intend to submit a memorandum (the “Submission”) to EPA further supporting the Petition and requires Plaintiffs to provide that Submission to EPA within 30 days after both parties have signed the Agreement. The Agreement provides that EPA shall sign an order granting or denying the Petition no earlier than 30 days and no later than 90 days after receiving the Submission. (If Plaintiffs fail to provide a timely Submission to EPA, EPA may grant or deny the Petition at any time during the 90 days following the date the Submission is due.) EPA shall provide notice of such order to Plaintiffs within five business days following signature of such order, and EPA shall deliver notice of such order to the Office of the Federal Register no later than ten calendar days following signature of such order. Plaintiffs shall seek dismissal of the litigation with prejudice upon EPA's compliance with these obligations. During a 120-day period after entry of a Court order dismissing this case, the parties shall seek to informally resolve any claim for litigation costs, including attorney's fees, and if they cannot, Plaintiffs may seek such costs from the Court.

For a period of thirty (30) days following the date of publication of this notice, the Agency will receive written comments relating to the proposed settlement agreement from persons who were not named as parties or intervenors to the litigation in question. EPA or the Department of Justice may withdraw or withhold consent to the proposed settlement agreement if the comments disclose facts or considerations that indicate that such consent is inappropriate, improper, inadequate, or inconsistent with the requirements of the Act. Unless EPA or the Department of Justice determine, based on any comment which may be submitted, that consent to the settlement agreement should be withdrawn, the terms of the agreement will be affirmed.

II. Additional Information About Commenting on the Proposed Settlement

A. How Can I Get A Copy of the Settlement?

EPA has established an official public docket for this action under Docket ID No. OGC-2004-0008 which contains a copy of the Agreement. The official public docket is available for public viewing at the Office of Environmental Information (OEI) Docket in the EPA Docket Center, EPA West, Room B102, 1301 Constitution Ave., NW., Washington, DC. The EPA Docket Center Public Reading Room is open from 8:30 a.m. to 4:30 p.m., Monday through Friday, excluding legal holidays. The telephone number for the Public Reading Room is (202) 566-1744, and the telephone number for the OEI Docket is (202) 566-1752.

An electronic version of the public docket is available through EPA's electronic public docket and comment system, EPA Dockets. You may use EPA Dockets at http://www.epa.gov/edocket/ to submit or view public comments, to access the index listing of the contents of the official public docket, and to access those documents in the public docket that are available electronically. Once in the system, select “search,” then key in the appropriate docket identification number.

It is important to note that EPA's policy is that public comments, whether submitted electronically or in paper, will be made available for public viewing in EPA's electronic public docket as EPA receives them and without change, unless the comment contains copyrighted material, CBI, or other information whose disclosure is restricted by statute. Information claimed as CBI and other information whose disclosure is restricted by statute is not included in the official public docket or in EPA's electronic public docket. EPA's policy is that copyrighted material, including copyrighted material contained in a public comment, will not be placed in EPA's electronic public docket but will be available only in printed, paper form in the official public docket. Although not all docket materials may be available electronically, you may still access any of the publicly available docket materials through the EPA Docket Center.

B. How and to Whom Do I Submit Comments?

You may submit comments as provided in the ADDRESSES section. Please ensure that your comments are submitted within the specified comment period. Comments received after the close of the comment period will be marked “late.” EPA is not required to consider these late comments.

If you submit an electronic comment, EPA recommends that you include your name, mailing address, and an e-mail address or other contact information in the body of your comment and with any disk or CD ROM you submit. This ensures that you can be identified as the submitter of the comment and allows EPA to contact you in case EPA cannot read your comment due to technical difficulties or needs further information on the substance of your comment. Any identifying or contact information provided in the body of a comment will be included as part of the comment that is placed in the official public docket, and made available in EPA's electronic public docket. If EPA cannot read your comment due to technical difficulties and cannot contact you for clarification, EPA may not be able to consider your comment.

Your use of EPA's electronic public docket to submit comments to EPA electronically is EPA's preferred method for receiving comments. The electronic public docket system is an “anonymous access” system, which means EPA will not know your identity, e-mail address, or other contact information unless you provide it in the body of your comment. In contrast to EPA's electronic public docket, EPA's electronic mail (e-mail) system is not an “anonymous access” system. If you send an e-mail comment directly to the Docket without going through EPA's electronic public docket, your e-mail address is automatically captured and included as part of the comment that is placed in the official public docket, and made available in EPA's electronic public docket.

Dated: July 21, 2004.
Lisa K. Friedman,
Associate General Counsel, Air and Radiation Law Office, Office of General Counsel.

[FR Doc. 04-17380 Filed 7-29-04; 8:45 am]

BILLING CODE 6560-50-P